DEPARTMENT OF COMMERCE

National Oceanic and Atmospheric Administration

RIN: 0648-XZ41

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Snapper Grouper Advisory Panel (AP) in North Charleston, SC. See SUPPLEMENTARY INFORMATION.

DATES: The meeting will take place November 16-18, 2010. See SUPPLEMENTARY INFORMATION for specific dates and times.

ADDRESSES: The meeting will be held at the Hilton Garden Inn, 5265 International Boulevard, North Charleston, SC; telephone: (843) 308-9330.

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; email: kim.iverson@safmc.net.

SUPPLEMENTARY INFORMATION: Members of the Snapper Grouper Advisory Panel will meet from 1:30 p.m. until 5 p.m. on November 16, 2010; from 8:30 a.m. until 5 p.m. on November 17, 2010 and from 8:30 a.m. until 12 noon on November 18, 2010.

The Advisory Panel will receive updates from Council staff and provide recommendations on the following amendments: Regulatory Amendments 9 & 10 to the Snapper Grouper Fishery Management Plan (FMP) addressing trip limits and changes to red snapper management due to the on-going stock assessment, respectively; Amendment 18A addressing management of black sea bass and golden tilefish; Amendment 24 addressing management of red grouper and Amendment 22 addressing long-term management of red snapper, and the Comprehensive Annual Catch Limit (ACL) Amendment addressing ACLs for several snapper grouper species as well as other Council-managed species. AP members will receive status reports on the following amendments to the Snapper Grouper FMP currently under development: Amendment 18B addressing possible extension of the snapper Grouper Fishery Management Unit northward, Amendment 20 addressing changes to the wreckfish Individual Transferrable Quota (ITQ) program, and Amendment 21 addressing development of a catch shares program for the snapper grouper fishery. The AP will also discuss spawning season protection for snapper grouper species.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see FOR FURTHER INFORMATION CONTACT) 3 days prior to the meeting.

Note: The times and sequence specified in this agenda are subject to change.

Dated: September 30, 2010.
Tracey L. Thompson,
Acting Director, Office of Sustainable Fisheries, National Marine Fisheries Service.

[FR Doc. 2010-25055 Filed 10-5-10; 8:45 am]

BILLING CODE 3510-22-S